DEPARTMENT OF HOMELAND SECURITY

Federal Law Enforcement Training Center

[Docket No. FLETC-2008-0002]

State and Local Training Advisory Committee

ACTION: Committee Management; Notice of Federal Advisory Committee Charter Renewal.

SUMMARY: The Secretary of Homeland Security has determined that the renewal of the charter of the State and Local Training Advisory Committee (SALTAC) is necessary and in the public interest in connection with the Federal Law Enforcement Training Center's performance of its duties in providing law enforcement training to state, local and tribal law professionals. This determination follows consultation with the Committee Management Secretariat, General Services Administration.

Name of Committee: State and Local Training Advisory Committee.

ADDRESSES: If you desire to submit comments on this action, they must be submitted by July 1, 2008. Comments must be identified by FLETC-2008-0002 and may be submitted by one of the following methods:

• Federal eRulemaking Portal: http://www.regulations.gov. Follow the instructions for submitting comments.

• E-mail: Reba.fischer@dhs.gov. Include the docket number in the subject line of the message.

• Fax: 912-267-3531.

• Mail: Reba Fischer, Federal Law Enforcement Training Center, 1131 Chapel Crossing Road, Townhouse 396, Glynco, GA 31524.

• Instructions: All submissions received must include the words “Department of Homeland Security” and FLETC-2008-XXXX, the docket number for this action. Comments received will be posted without alteration at http://www.regulations.gov including any personal information provided.

• Docket: For access to the docket to read background documents or comments received, go to http://www.regulations.gov.

FOR FURTHER INFORMATION CONTACT: Reba Fischer, Designated Federal Officer, Federal Law Enforcement Training Center, 1131 Chapel Crossing Road, Townhouse 396, Glynco, GA 31524; 912-267-2343 (telephone); 912-267-3531 (fax), reba.fischer@dhs.gov.

Purpose and Objective: The SALTAC advises and makes recommendations to the Federal Law Enforcement Training Center (FLETC), Department of Homeland Security, on matters relating to the selection, development, content and delivery of training services by the Office of State and Local Training, FLETC, to its state, local, campus, and tribal law enforcement customers.

Duration: The committee's charter is effective March 24, 2008, and expires March 24, 2010.

Responsible DHS Official: Reba Fischer, Designated Federal Officer, Federal Law Enforcement Training Center, 1131 Chapel Crossing Road, Townhouse 396, Glynco, GA 31524; 912-267-2343 (telephone); 912-267-3531 (fax), reba.fischer@dhs.gov.

Dated: May 5, 2008.
Seymour Jones,
Deputy Assistant Director, Office of State and Local Training.

[FR Doc. E8-11079 Filed 5-16-08; 8:45 am]

BILLING CODE 4810-32-P